INTERNATIONAL TRADE COMMISSION

[USITC SE-02-016]

Sunshine Act Meeting

Agency Holding the Meeting: International Trade Commission.

Time and Date: June 10, 2002 at 2 p.m.

Place: Room 101, 500 E Street SW, Washington, DC 20436. Telephone: (202) 205-2000.

Status: Open to the public.

Matters To Be Considered:

1. Agenda for future meeting: none

2. Minutes

3. Ratification List

4. Inv. Nos. 701-TA-415 and 731-TA-933-934 (Final) (Polyethylene Terephthalate Film, Sheet, and Strip from India and Taiwan)—briefing and vote. (The Commission is currently scheduled to transmit its determination and Commissioners' opinions to the Secretary of Commerce on or before June 18, 2002.)

5. Outstanding action jackets:

(1) Document No. EC-02-005: Approval of final report in Inv. No. 332-325 (The Economic Effects of Significant U.S. Import Restraints: Third Update).

(2) Document No. EC-02-006: Approval of The Year in Trade 2001, Operation of the Trade Agreements Program, 53rd Report.

In accordance with Commission policy, subject matter listed above, not disposed of at the scheduled meeting, may be carried over to the agenda of the following meeting.

Issued: May 23, 2002.
By order of the Commission.
Marilyn R. Abbott,
Secretary to the Commission.

[FR Doc. 02-13612 Filed 5-24-02; 4:17 pm]

BILLING CODE 7020-02-P